DEPARTMENT OF TRANSPORTATION

Surface Transportation Board

[Docket No. FD 35698]

Buckeye East Chicago Railroad, LLC—Acquisition and Operation Exemption—Buckeye Partners, L.P.

Buckeye East Chicago Railroad, LLC (BERR), a noncarrier, has filed a verified notice of exemption under 49 CFR 1150.31 to acquire from Buckeye Partners, L.P., a noncarrier, and to operate approximately 7,065 feet (1.34 miles) of track,¹ existing railroad right-of-way, and bulk liquid transloading facilities in East Chicago, Ind. BERR will interchange traffic with the Indiana Harbor Belt Railroad Company.

¹ Applicant states that the track does not have designated mileposts.

The transaction may be consummated on or after December 16, 2012 (30 days after the notice of exemption was filed).

BERR certifies that its projected annual revenues as a result of this transaction will not exceed those that would qualify it as a Class III rail carrier and will not exceed $5 million.

If the verified notice contains false or misleading information, the exemption is void ab initio. Petitions to revoke the exemption under 49 U.S.C. 10502(d) may be filed at any time. The filing of a petition to revoke will not automatically stay the effectiveness of the exemption.² Petitions to stay must be filed no later than December 7, 2012 (at least seven days before the exemption becomes effective).

² Upon effectiveness of this exemption, only BERR will be authorized to operate the subject track and transloading facilities. In its filing, BERR states that it has reached an agreement, attached to the filing, with Landisville Railroad, LLC (Landisville), a Class III rail carrier, to operate the track and facilities. However, Landisville does not have Board authority to conduct those operations and may not do so until it seeks and obtains appropriate Board authority.

An original and 10 copies of all pleadings, referring to Docket No. FD 35698, must be filed with the Surface Transportation Board, 395 E Street SW., Washington, DC 20423-0001. In addition, a copy of each pleading must be served on David C. Dillon, 111 West Washington Street, Suite 1023, Chicago, IL 60602.

Board decisions and notices are available on our Web site at www.stb.dot.gov.

Decided: November 27, 2012.
By the Board, Rachel D. Campbell, Director, Office of Proceedings.
Jeffrey Herzig,
Clearance Unit.

[FR Doc. 2012-29051 Filed 11-30-12; 8:45 am]

BILLING CODE 4915-01-P